DEPARTMENT OF AGRICULTURE

National Agricultural Library

Notice of Second Interested Party Feedback Period Regarding Increasing Public Access to the Results of USDA-Funded Research

AGENCY: National Agricultural Library, Agricultural Research Service, Department of Agriculture.

ACTION: Notice of second public feedback period.

SUMMARY: The U.S. Department of Agriculture's (Department's) National Agricultural Library (NAL) announces a second public feedback period to receive public comments, recommendations, and suggestions on the Department's planned response to White House Office of Science and Technology Policy (OSTP) guidance on access to the results of federally-funded research. The Department's plan and policies apply to the results of research funded wholly or in part by any USDA component agency. This effort to obtain input regarding implementation of federal public access requirements will be carried out through an online submission mechanism. This second public feedback period is to allow opportunity for feedback from interested parties not widely heard from during the first period, including but not limited to members of the public; principal investigators; research institutions, including minority-serving institutions; research libraries; data repositories; and data scientists. Responses received during the first comment period have already been reviewed and will be considered along with comments received during the second comment period. If you need a reasonable accommodation or language access services to leave a written comment, please contact Cynthia Parr, National Agricultural Library, at Cynthia.Parr@usda.gov, or 301-837-8917.

Written Comments: Submission of written interested party input will be open upon publishing of this Notice through 5 p.m. Eastern time February 28, 2024, via the Federal eRulemaking portal as described below.

ADDRESSES:

Written comments: Written comments must be submitted via the Federal eRulemaking Portal at regulations.gov. Please go to www.regulations.gov to submit your comments electronically. Information on using regulations.gov, including instructions for accessing agency documents, submitting comments, and viewing the docket, is available at https://www.nal.usda.gov/services/public-access/.

The Department will not accept comments submitted by fax or by email or comments submitted after the comment period closes. To ensure that the Department does not receive duplicate copies, please submit your comments only once.

Privacy Note: The Department's policy is to make all comments received from members of the public available for public viewing on the Federal eRulemaking Portal at www.regulations.gov. Therefore, commenters should be careful to include in their comments only information that they wish to make publicly available.

FOR FURTHER INFORMATION CONTACT: Cynthia Parr, National Agricultural Library, at Cynthia.Parr@usda.gov, or 301-837-8917.

SUPPLEMENTARY INFORMATION:

Purpose: USDA seeks further public input on its plans for enhancing policy, infrastructure, and outreach to make results of the research it funds more readily available and accessible by the public.

Background: USDA developed a public access plan in response to the February 22, 2013, OSTP memorandum entitled “Increasing Access to the Results of Federally Funded Scientific Research” and several White House memoranda. Current USDA policy and activities were developed from that original plan. On August 25, 2022, OSTP issued a new public access memorandum: “Ensuring Free, Immediate, and Equitable Access to Federally Funded Research.” In response to OSTP's 2022 memo, USDA will enhance policy, infrastructure, and outreach to make its scientific data and publications more readily available and accessible by the public, as described generally in its new plan available at: https://www.nal.usda.gov/services/public-access/. This comment period, organized by the National Agricultural Library on behalf of the USDA Office of the Chief Scientist, allows interested parties the opportunity to provide feedback on USDA's plan and to inform details of its policy-making and other implementation. The USDA Public Access plan and policies apply to the results of research funded wholly or in part by any USDA component agency. USDA provides the following questions to prompt feedback and comments. USDA encourages public comment on any or all of these questions, and also seeks any other information that commenters believe is relevant.

• How can USDA best implement its plans to improve public access to USDA-funded research results?

• How can USDA update or refine its policies to improve public access to USDA-funded research results?

• How can USDA ensure equity in publication opportunities?

• How can USDA use partnerships to improve public access and accessibility to results of USDA-funded research?

• How can USDA monitor impacts on communities impacted by its public access policies?

Done at Washington, DC
Jeffrey Silverstein,
Acting Associate Administrator, Agricultural Research Service, U.S. Department of Agriculture.

[FR Doc. 2024-01673 Filed 1-26-24; 8:45 am]

BILLING CODE 3410-03-P